DEPARTMENT OF THE INTERIOR

Bureau of Land Management

[LLMTM01000-L14300000.ET0000; MTM 79264]

Notice of Proposed Withdrawal Extension and Opportunity for Public Meeting; Montana

AGENCY: Bureau of Land Management, Interior.

ACTION: Notice.

SUMMARY: The Assistant Secretary for Land and Minerals Management proposes to extend the duration of Public Land Order (PLO) No. 6861 for an additional 20-year term. PLO No. 6861 withdrew 20 acres of public land from settlement, sale, location, or entry under the general land laws, including the United States mining laws (30 U.S.C. Ch. 2), to protect the educational and scientific values of the Rattler Gulch Limestone Cliffs Area of Critical Environmental Concern (ACEC). This notice also gives an opportunity to comment on the proposed action and to request a public meeting.

DATES: Comments and requests for a public meeting must be received by December 13, 2010.

ADDRESSES: Comments and meeting requests should be sent to the Montana State Director, Bureau of Land Management, 5001 Southgate Drive, Billings, Montana 59101.

FOR FURTHER INFORMATION CONTACT: Lonna Sandau, BLM Missoula Field Office, 406-329-1093, or Sandra Ward, BLM Montana State Office, 406-896-5052.

SUPPLEMENTARY INFORMATION: The withdrawal created by PLO No. 6861 (56 FR 26035-6 (1991)), will expire June 5, 2011, unless extended. The Bureau of Land Management (BLM) has filed an application to extend PLO No. 6861 for an additional 20-year term. The withdrawal was made to protect the Rattler Gulch Limestone Cliffs ACEC's educational and scientific values for the following-described land:

Principal Meridian, Montana

T. 11 N., R. 13 W.,

Sec. 4, SE¼SE¼SE¼;

Sec. 9, NE¼NE¼NE¼.

The area described contains 20.00 acres in Granite County.

The purpose of the proposed extension is to continue protection of the Rattler Gulch Limestone Cliffs ACEC's educational and scientific values.

The use of a right-of-way, interagency agreement, or cooperative agreement would not provide adequate protection.

There are no suitable alternative sites available.

No water will be needed to fulfill the purpose of the requested withdrawal extension.

All persons who wish to submit comments, suggestions, or objections in connection with the proposed withdrawal extension may present their views in writing to the BLM Montana State Director by December 13, 2010, at the address above.

Comments, including names and street addresses of respondents, will be available for public review at the BLM Missoula Field Office, 3255 Fort Missoula Road, Missoula, Montana 59804 during regular business.

Individual respondents may request confidentiality. Before including your address, phone number, e-mail address, or other personal identifying information in your comment, be advised that your entire comment—including your personal identifying information—may be made publicly available at any time. While you can ask in your comment to withhold from public review your personal identifying information, we cannot guarantee that we will be able to do so.

Notice is hereby given that an opportunity for a public meeting is afforded in connection with the proposed withdrawal extension. All interested persons who desire a public meeting for the purpose of being heard on the proposed withdrawal extension must submit a written request to the BLM Montana State Director at the address above by December 13, 2010. Upon determination by the authorized officer that a public meeting will be held, a notice of the time and place will be published in the Federal Register and in at least one local newspaper not less than 30 days before the scheduled date of the meeting.

This application will be processed in accordance with the regulations set forth in 43 CFR 2310.4.

Authority: 43 CFR 2310.3-1.

Christina Miller,
Acting Chief, Branch of Land Resources.

[FR Doc. 2010-22740 Filed 9-10-10; 8:45 am]

BILLING CODE 4310-DN-P